DEPARTMENT OF TRANSPORTATION

National Highway Traffic Safety Administration

[Docket No. DOT-NHTSA-2015-0051]

Notice and Request for Comments

AGENCY: National Highway Traffic Safety Administration (NHTSA), U.S. Department of Transportation (DOT).

ACTION: Notice and request for comments.

SUMMARY: The DOT invites public comments about our intention to request the Office of Management and Budget (OMB) approval for new information collection. Before a Federal agency can collect certain information from the public, it must receive approval from OMB. Under procedures established by the Paperwork Reduction Act of 1995, before seeking OMB approval, Federal agencies must solicit public comment on proposed collections of information, including extensions and reinstatement of previously approved collections.

DATES: Written comments should be submitted by August 17, 2015.

ADDRESSES: You may submit comments (identified by Docket No. DOT-NHTSA-2015-0051) through one of the following methods:

• Federal eRulemaking Portal: http://www.regulations.gov. Follow the online instructions for submitting comments.

• Fax: 1 (202) 493-2251.

• Mail or Hand Delivery: Docket Management Facility, U.S. Department of Transportation, 1200 New Jersey Avenue SE., West Building, Room W12-140, Washington, DC 20590, between 9 a.m. and 5 p.m., Monday through Friday, except on Federal holidays.

FOR FURTHER INFORMATION CONTACT: Susan McHenry, (202) 366-6540, Office of Emergency Medical Services, National Highway Traffic Safety Administration, U.S. Department of Transportation, 1200 New Jersey Avenue SE., Washington, DC 20590.

SUPPLEMENTARY INFORMATION:

OMB Control Number: New.

Title: National Emergency Medical Services Information System (NEMSIS)—State Submission to National Emergency Medical Services (EMS) Database.

Type of Review: New Information Collection.

Abstract: NHTSA supports and funds NEMSIS to further its goal of reducing death and disability on the Nation's roadways. The NEMSIS Technical Assistance Center (TAC) assists State and local EMS agencies and software vendors in implementing NEMSIS Version 3.0 (and higher)-compliant EMS data systems and the corresponding XML standard to support data transmission and interoperability. NHTSA also maintains the National EMS Database and a national reporting system. NHTSA supported the initial development of the National EMS Information System, including the supporting Data Dictionary and technology infrastructure, at the request of the National Association of State EMS Officials. This effort developed the first-ever standardized EMS patient care reporting mechanism, which would provide essential information that could lead to improved patient care at local, State and national levels. Both the Senate and House included NEMSIS language in FY05 NHTSA Appropriations, directing NHTSA to continue implementation of NEMSIS and the National EMS Database. Congress has continued to support funding for the NEMSIS TAC and the National EMS Database. The information collected in the National EMS Database will be used to: (1) Better describe EMS across the country, (2) provide information that will help NHTSA better understand the serious injuries sustained as a result of motor vehicle crashes, (3) inform the NHTSA Office of EMS on changes in clinical practices/protocols, medications and other factors that impact National EMS Education Standards, developed by NHTSA, (4) support EMS research, and (5) support a comprehensive set of local and State EMS Performance Measures that are currently under development, with support of NHTSA.

The National EMS Database is populated by collecting data from State EMS databases. State EMS databases are populated with patient care records from local or regional EMS agencies. The most complete report is the local EMS electronic patient care report completed for each EMS response. A subset of each the local EMS report is submitted electronically to the State EMS database and the State EMS office electronically transmits a smaller subset of all the local data to the NEMSIS TAC for inclusion in the National EMS Database. The data at the national level contains no personally identifiable information, and is reported in the aggregate.

Affected Public: State and territory EMS offices, and, in some cases, EMS software vendors.

Estimated Number of Respondents: 56.

Frequency: Through Web services, within a few hours of when the State receives the local record.

Number of Responses: Depends on each State and how many patient calls are responded to. All transmissions are machine to machine.

Total Annual Burden: Estimate total annual burden to be approximately 12 hours per respondent and cumulative total of 672 hours.

Form Numbers: No forms.

Public Comments Invited: You are asked to comment on any aspect of this information collection, including (a) whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Authority: The Paperwork Reduction Act of 1995; 44 U.S.C. Chapter 35, as amended; and 49 CFR 1:48.

Jeffrey P. Michael,
Associate Administrator, Research and Program Development.

[FR Doc. 2015-14922 Filed 6-16-15; 8:45 am]

BILLING CODE 4910-59-P